ENVIRONMENTAL PROTECTION AGENCY

[EPA-HQ-OECA-2014-0523; FRL 9915-42-OECA]

Agency Information Collection Activities; Proposed Collection; Comment Request; Air Stationary Source Compliance and Enforcement Information Reporting

AGENCY: Environmental Protection Agency (EPA).

ACTION: Notice.

SUMMARY: In compliance with the Paperwork Reduction Act (PRA), this document announces that EPA is planning to submit a request to renew an existing approved Information Collection Request (ICR) to the Office of Management and Budget (OMB). This ICR is scheduled to expire on Jan 31, 2015. Before submitting the ICR to OMB for review and approval, EPA is soliciting comments on specific aspects of the proposed information collection as described below.

DATES: Comments must be submitted on or before October 20, 2014.

ADDRESSES: Submit your comments, identified by Docket ID No. EPA-HQ-OECA-2014-0523, by one of the following methods:

• www.regulations.gov: Follow the on-line instructions for submitting comments.

• Email: docket.oeca@epa.gov.

• Fax: (202) 566-9744.

• Mail: U.S. Environmental Protection Agency, EPA Docket Center, [Enter Name of Docket Here], Mail Code 28221T, 1200 Pennsylvania Avenue NW., Washington, DC 20460 Hand Delivery: EPA Docket Center (EPA/DC), EPA West, Room 3334, 1301 Constitution Ave. NW., Washington, DC. Such deliveries are only accepted during the Docket's normal hours of operation, and special arrangements should be made for deliveries of boxed information.

Instructions: Direct your comments to Docket ID No. EPA-HQ-OECA-2014-0523. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters and any form of encryption, and be free of any defects or viruses. For additional information about EPA's public docket visit the EPA Docket Center homepage at http://www.epa.gov/epahome/dockets.htm.

FOR FURTHER INFORMATION CONTACT: David A. Meredith, Enforcement Targeting and Data Division, Office of Compliance, (2222A), Environmental Protection Agency, 1200 Pennsylvania Ave. NW., Washington, DC 20460; telephone number: (202) 564-4152; email address: meredith.david@epa.gov.

SUPPLEMENTARY INFORMATION:

How can I access the docket and/or submit comments?

EPA has established a public docket for this ICR under Docket ID No. EPA-HQ-OECA-2014-0523, which is available for online viewing at www.regulations.gov, or in person viewing at the Enforcement and Compliance Docket and Information Center (ECDIC) in the EPA Docket Center (EPA/DC), EPA WJC-West, Room 3334, 1301 Constitution Ave. NW., Washington, DC. The EPA/DC Public Reading Room is open from 8 a.m. to 4:30 p.m., Monday through Friday, excluding legal holidays. The telephone number for the Reading Room is 202-566-1744, and the telephone number for the ECDIC is 202-566-1752.

Use www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Affected entities: Entities potentially affected by this action are State, Local, Territorial, Indian Nations, and Commonwealth governments.

Title: Air Stationary Source Compliance and Enforcement Information Reporting.

ICR numbers: EPA ICR No. 0107.011, OMB Control No. 2060-0096.

ICR status: This ICR is currently scheduled to expire on Jan. 31, 2015. An Agency may not conduct or sponsor, and a person is not required to respond to, a collection of information unless it displays a currently valid OMB control number. The OMB control numbers for EPA regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: Air Stationary Source Compliance and Enforcement Information Reporting is an activity whereby State, Local, Native American, Territorial, and Commonwealth governments (hereafter referred to as either “states/locals” or “state and local agencies”) make air stationary source compliance and enforcement information available to the U.S. Environmental Protection Agency (EPA or the Agency) on a cyclic basis via input to the Air Facility System (AFS), until mid October 2014, and via input to the modernized AFS—the Air component of the Integrated Compliance Information System (ICIS-Air), from late October 2014 forward. The Agency, with support from state and local agencies, is nearing completion of the modernization of AFS into ICIS-Air. The planned date of the implementation of ICIS-Air is October 27, 2014.

ICIS-Air supports EPA and state and local agency efforts to ensure compliance with the nation's environmental laws pertaining to air, via the collection and management of important Clean Air Act (CAA or the “Act”) compliance and enforcement information. The information to be provided to EPA via ICIS-Air includes source characterization, compliance monitoring, and enforcement activities. EPA will use this information to assess progress toward meeting emission requirements developed under the authority of the CAA, and to protect and maintain air quality, public health, and the environment. Agencies receive delegation of the CAA through regulated grant authorities, and report compliance/enforcement activities undertaken at stationary sources pursuant to the Minimum Data Requirements (MDRs) as outlined in this ICR. The provisions of Section 114(a)(1) of the Clean Air Act, 42 U.S.C. Section 7414(a)(1) provide the broad authority for the reporting of compliance monitoring and enforcement information, along with Subpart Q-Reports in 40 CFR 51: Sections 51.324(a) and (b), and 51.327. This renewal requires the continuation of reporting of previously established MDRs via a new information system solution—ICIS-Air instead of AFS. Since AFS will be replaced by ICIS-Air prior to the official renewal of this ICR, we are including in the Supporting Statement a crosswalk between the MDRs expressed as the current AFS data elements and as the new ICIS-Air data elements.

Are there changes in the estimates from the last approval?

The current EPA database for which these data are reported (i.e., AFS) will not exist at the time of this ICR renewal; therefore, EPA will not perform a new burden estimate based on reporting to AFS. Since the new, replacement system, ICIS-Air, is not yet implemented in a production environment, we cannot use the new system to develop a new burden estimate for future reporting to ICIS-Air at the current time. EPA will estimate burden in the Federal Register notice with the ICR to the best of its ability and will take comment on those estimates.

While transition to the new ICIS-Air system will require some investment at the federal, state and local levels, EPA believes that by providing a modern and more capable information system, states and locals as a group will experience a significant overall reduction in reporting burden. This will occur for states/locals that are direct users, as well as for those using electronic data transfer (EDT) to report MDRs to ICIS-Air. In addition to the anticipated burden reduction associated with completion of AFS modernization to ICIS-Air, EPA is nearing completion of two major policy revisions—the High Priority Violations (HPV) and Federally Reportable Violations (FRV) policies—that will result in a narrowing of the scope of CAA enforcement and compliance reporting as compared to the previous ICR renewal cycle. These policy revisions will result in additional burden reduction for state and local agencies.

EPA does anticipate that operational and maintenance costs associated with state and local agency reporting will increase modestly due to inflationary pressures (e.g., increased hourly resource costs for management, professional, and related occupational groups). The labor rates used in the ICR estimates will be taken from the Department of Labor Employment Compensation and Costs (ECEC) Web site. These changes will be reflected in the final supporting statement for this ICR.

What is the next step in the process for this ICR?

EPA will consider the comments received and amend the ICR as appropriate. The final ICR package will be submitted by EPA to OMB for review and approval pursuant to 5 CFR 1320.12. At that time, EPA will issue another Federal Register notice pursuant to 5 CFR 1320.5(a)(1)(iv) to announce the submission of the ICR to OMB, and a second opportunity to submit additional comments to OMB. If you have any questions about this ICR, or the approval process, please contact the technical person listed under FOR FURTHER INFORMATION CONTACT.

Dated: August 15, 2014.
Betsy Smidinger,
Acting Director, Office of Compliance, Office of Enforcement and Compliance Assurance.

[FR Doc. 2014-19876 Filed 8-20-14; 8:45 am]

BILLING CODE 6560-50-P